ENVIRONMENTAL PROTECTION AGENCY

[ER-FRL-6628-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

Summary of Rating Definitions Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or Section 309 review, and thus should be formally revised and made available for public comment in a supplemental or revised draft EIS. On the basis of the potential significant impacts involved, this proposal could be a candidate for referral to the CEQ.

Draft EISs

ERP No. D-BLM-L60107-OR Rating NS, Coos County Natural Gas Transmission Pipeline, Construction, Operation and Maintenance of a Natural Gas Pipeline from Roseburg to Coos Bay, Right-of-Way Grant, Coos Bay District, Coos County, OR.

Summary: EPA Region 10 used a screening tool to conduct a limited review of the draft EIS. Based on the screen, EPA does not foresee having any environmental objections to the proposed action. Therefore, EPA did not conduct a detailed review.

ERP No. D-FHW-G40169-AR Rating EC2, Springdale Northern Bypass Project, US Highway 412 Construction, Funding and NPDES Permit Issuance, Benton and Washington Counties, AR.

Summary: EPA expressed environmental concerns with the proposed action and requested additional information regarding stormwater best management practices, noise mitigation and stream bank restoration.

Final EISs

ERP No. F-AFS-L65368-ID Curfew National Grassland Land and Resource Management Plan, Implementation, Caribou-Targhee National Forest, Oneida County, ID.

Summary:The final EIS addressed most of EPA's comments on the draft EIS and EPA has no objection to the proposed action.

ERP No. F-FHW-G40160-OK I-40 Crosstown Expressway Transportation Improvements, I-235/I-35 Interchange west to Meridian Avenue, Funding, Oklahoma City, Oklahoma County, OK.

Summary: EPA had no further comments.

ERP No. F-FHW-G40165-NM US 70 Corridor Improvement, Ruidoso Downs to Riverside, Funding and Right-of-Way Acquisition, Lincoln County, NM.

Summary: EPA has no further comments.

ERP No. F-FHW-K40236-HI Kihei-Upcounty Maui Highway Transportation Improvements, Funding and US Army COE Section 404 Permit Issuance, Maui County, HI.

Summary: EPA welcomes the mitigation presented in the FEIS to avoid and/or reduce adverse water quality impacts from the project's construction and operation. EPA asked that commitments to protect water quality and recycle construction-related solid waste be included in FHWA's Record of Decision.

ERP No. F-FHW-K40240-CA CA-70 Two-Lane Expressway Upgrade to a Four-Lane Expressway/Freeway south of Striplin Road to south of McGowan Road Overcrossing, Funding and US Army COE Section 404 Permit Issuance, Sutter and Yuba Counties, CA.

Summary: EPA found the FEIS adequately addresses most of the issues raised in our comment letter on the DEIS. However, EPA reiterated environmental concerns about air quality impacts and wetland mitigation, and requested this information be provided in the Record of Decision.

ERP No. FS-BLM-J67019-MT Zortman and Landusky Mines Reclamation Plan, Modifications and Mine Life Extensions, Updated Information to Analyze Additional Reclamation Alternatives, Mine Operations Approval, Mine Reclamation and US Army COE Section 404 Permits Issuance, Little Rocky Mountains, Phillip County, MT.

Summary: EPA expressed lack of objections with selection of the preferred alternatives, Z-6 and L-4. However, EPA noted that the implementation of these alternatives will require additional funding. EPA would have objections with the selection of within bond alternatives Z-3 and L-3 based on substantial risk of not attaining water quality standards in the long-term due to increased contaminated leachate.

Dated: April 9, 2002.
Joseph C. Montgomery,
Director, NEPA Compliance Division, Office of Federal Activities.

[FR Doc. 02-8956 Filed 4-11-02; 8:45 am]

BILLING CODE 6560-50-P